DEPARTMENT OF THE INTERIOR

Fish and Wildlife Service

[FWS-HQ-R-2019-N090; FXGO1664091HCC0-FF09D00000-190]

Hunting and Shooting Sports Conservation Council; Public Meeting

AGENCY: Fish and Wildlife Service, Interior.

ACTION: Notice of meeting.

SUMMARY: We, the U.S. Fish and Wildlife Service, announce a public meeting of the Hunting and Shooting Sports Conservation Council (Council), in accordance with the Federal Advisory Committee Act. The Council's purpose is to provide recommendations to the Federal Government, through the Secretary of the Interior and the Secretary of Agriculture, regarding policies and endeavors that benefit wildlife resources; encourage partnership among the public; sporting conservation organizations; and Federal, State, tribal, and territorial governments; and benefit recreational hunting and recreational shooting sports. The meeting is open to the public.

DATES:

Meeting: Wednesday, November 20, 2019, from 8:30 a.m. to 4:30 p.m. Eastern Standard Time. The meeting is open to the public.

Deadline for Attendance or Participation: For security purposes, signup or request for accommodations is required no later than November 15, 2019. For more information, contact the Council Designated Federal Officer (FOR FURTHER INFORMATION CONTACT). For more information regarding participation during the meeting, see Public Input under SUPPLEMENTARY INFORMATION.

Other Deadlines: For a summary of all deadlines related to this meeting, including registration, requests for accommodation, and comment submission, please see Public Input under SUPPLEMENTARY INFORMATION.

ADDRESSES: Meeting Location: U.S. Department of the Interior, 1849 C Street NW, Washington, DC 20240.

Comment Submission: You may submit written comments in advance of the meeting by emailing them to the Council Designated Federal Officer (see FOR FURTHER INFORMATION CONTACT).

FOR FURTHER INFORMATION CONTACT: Douglas Hobbs, Designated Federal Officer, by email at doug_hobbs@fws.gov, by telephone at 703-358-2336, via the Federal Relay Service at 800-877-8339, or by U.S. mail or hand-delivery at the U.S. Fish and Wildlife Service, MS:EA, 5275 Leesburg Pike, Falls Church, Virginia 22041.

SUPPLEMENTARY INFORMATION: The Council was established to further the provisions of the Fish and Wildlife Act of 1956 (16 U.S.C. 742a), the Federal Land Policy and Management Act of 1976 (43 U.S.C. 1701), the National Wildlife Refuge System Improvement Act of 1997 (16 U.S.C. 668dd), other Acts applicable to specific bureaus, and Executive Order 13443 (August 16, 2007), “Facilitation of Hunting Heritage and Wildlife Conservation.” The Council's purpose is to provide recommendations to the Federal Government, through the Secretary of the Interior and the Secretary of Agriculture, regarding policies and endeavors that (a) benefit wildlife resources; (b) encourage partnership among the public; sporting conservation organizations; and Federal, State, tribal, and territorial governments; and (c) benefit recreational hunting and recreational shooting sports.

Meeting Agenda

• Council subcommittee reports.

• Update from the Department of the Interior and Department of Agriculture and bureaus from both agencies regarding efforts to create or expand hunting and recreational shooting opportunities on Federal lands.

• Update from Federal agencies on efforts to implement Council recommendations.

• Consideration of subcommittee reports and discussion of possible recommendations.

• Public comment period.

• Other miscellaneous Council business.

The final agenda and other related meeting information will be posted on the Council website at https://www.fws.gov/hsscc. The Designated Federal Officer will maintain detailed minutes of the meeting, which will be posted for public inspection within 90 days after the meeting at https://www.fws.gov/hsscc.

Public Input

If you wish to | You must contact the Council Designated Federal Officer (see FOR FURTHER INFORMATION CONTACT) no later than
Request special accommodations | November 13, 2019.
Submit written information before the meeting for the Council to consider during the meeting | November 15, 2019.
Provide a public comment during the meeting | November 15, 2019.
Submit a copy of public comment or expanded comment, or to submit comment because time constraints prevented presentation during the meeting | Up to 30 days after the meeting date.

Submitting Written Information

Interested members of the public may submit relevant information for the Council to consider during the meeting. Written statements must be received by the Council Designated Federal Officer no later than the date in Public Input so that the information may be made available to the Council for their consideration prior to the meeting. Written statements must be supplied to the Council Designated Federal Officer via mail (for signed hard copies) or email (acceptable file formats are Adobe Acrobat PDF, MS Word, MS PowerPoint, or rich text file) (see FOR FURTHER INFORMATION CONTACT).

Giving an Oral Presentation

Depending on the number of people who want to comment and the time available, the amount of time for individual oral comments may be limited. Interested parties should contact the Council Designated Federal Officer, in writing (see FOR FURTHER INFORMATION CONTACT), for placement on the public speaker list for this meeting. Registered speakers who wish to expand upon their public comment, or those who had wished to speak but could not be accommodated on the agenda, may submit written comments to the Council Designated Federal Officer up to 30 days following the meeting. Requests to address the Council during the meeting will be accommodated in the order the requests are received.

Accommodations

The Service is committed to providing access to this meeting to all participants. Please direct all requests for accommodations to Douglas Hobbs by close of business on the date in Public Input. If you are hearing impaired or speech impaired, contact Douglas Hobbs via the Federal Relay Service at 800-877-8339.

Availability of Public Comments

Before including your address, phone number, email address, or other personal identifying information in your comment, you should be aware that your entire comment—including your personal identifying information—may be made publicly available at any time. While you can ask us in your comment to withhold your personal identifying information from public review, we cannot guarantee that we will be able to do so.

Authority: Federal Advisory Committee Act (5 U.S.C. Appendix 2).

Matthew Huggler,
Acting Assistant Director—External Affairs.

[FR Doc. 2019-24147 Filed 11-4-19; 8:45 am]

BILLING CODE 4333-15-P